COMMISSION ON CIVIL RIGHTS

Agenda and Notice of Public Meeting of the Hawaii Advisory Committee

Notice is hereby given, pursuant to the provisions of the rules and regulations of the U.S. Commission on Civil Rights, that a meeting of the Hawaii Advisory Committee to the Commission will convene at 10:00 a.m. and adjourn at 2:00 p.m. on Thursday, March 30, 2000, at the Ala Moana Hotel, Gardenia Room, 410 Atkinson Drive, Honolulu, Hawaii 96814. The purpose of the meeting is to discuss civil rights issues in the State, and plan future projects.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, March 6, 2000.
Carol-Lee Hurley,
Chief, Regional Programs Coordination Unit.

[FR Doc. 00-5849 Filed 3-9-00; 8:45 am]

BILLING CODE 6335-01-P